DEPARTMENT OF AGRICULTURE

Agricultural Marketing Service

[Docket No. AMS-LS-08-0101]

Notice of Opportunity To Participate in the Lamb Promotion, Research, and Information Program Referendum

AGENCY: Agricultural Marketing Service, USDA.

ACTION: Notice.

SUMMARY: The Agricultural Marketing Service (AMS) is announcing that a referendum will be conducted under the Lamb Promotion, Research, and Information Order (Order) to determine whether those persons voting favor the continuance of the Order.

DATES: This referendum will be conducted during a 4-week period beginning on February 2, 2009, and ending on February 27, 2009. To be eligible to participate in the referendum, persons must certify and provide supporting documentation that shows they, or the entity they are authorized to represent, have been engaged in the production, feeding, or slaughter of lambs between January 1, 2008 and December 31, 2008.

Form LS-86, Lamb Promotion, Research, and Information Referendum, may be obtained by mail, fax, or in person from the Farm Service Agency (FSA) county offices from February 2, 2009 through February 27, 2009. Form LS-86 may also be obtained via the Internet at: http://www.ams.usda.gov/LSMarketingPrograms during the same time period. Completed forms and supporting documentation must be returned to the appropriate county FSA offices by fax or in person no later than close of business February 27, 2009, or if returned by mail must be postmarked by midnight February 27, 2009, and received in the county FSA office by close of business on March 6, 2009.

FOR FURTHER INFORMATION CONTACT: Kenneth R. Payne, Chief, Marketing Programs Branch, on (202) 720-1115, fax (202) 720-1125, or by e-mail at Kenneth.Payne@usda.gov or Rick Pinkston, USDA, Farm Service Agency (FSA), Field Operations Staff, on (202) 720-1857, fax (202) 720-1096, or by e-mail on rick.pinkston@wdc.usda.gov.

SUPPLEMENTARY INFORMATION: Pursuant to the Commodity Promotion, Research, and Information Act of 1996 (Act) (7 U.S.C. 7411-7425), it is hereby directed that a referendum be conducted to ascertain whether continuance of the Order is favored by those persons who have been engaged in the production, feeding, or slaughtering of lamb from January 1, 2008 through December 31, 2008. The Act requires that a referendum to ascertain approval of an Order must be conducted no later than 3 years after assessments first begin. Assessments began on July 1, 2002. A referendum of lamb producers, feeders, seedstock producers, and first handlers of lamb and lamb products was conducted from January 31, 2005 through February 28, 2005. A majority of the participants voted in favor of the continuation of the Order. The Act also requires a subsequent referendum on the Order be conducted no later than 7 years after assessments first begin. Thus, USDA is required to conduct a nationwide referendum among persons subject to the assessment by July 1, 2009. The Order will continue if a majority of those persons voting, who also represent a majority of the volume of lambs, vote in favor of continuing the program. If the continuation of the Order is not approved by eligible persons voting in the referendum, USDA will begin the process of terminating the program.

The representative period for establishing voter eligibility for the referendum shall be the period from January 1, 2008 through December 31, 2008. Persons who were engaged in the production, feeding, or slaughtering of lambs and who provide documentation, such as a sales receipt or remittance form, showing that they were engaged in the production, feeding, or slaughter of lambs from January 1, 2008 through December 31, 2008 are eligible to vote.

Eligible voters will be provided the opportunity to vote at the county FSA office where FSA maintains and processes the eligible voter's administrative farm records. For the eligible voter not participating in FSA programs, the opportunity to vote will be provided at the FSA office serving the county where the person owns or rents land. Participation in the referendum is not mandatory.

Procedures used in conducting this referendum are set forth in 7 CFR part 1208, subpart E. A final rule amending this subpart is published in this issue of the Federal Register.

Pursuant to the Act, USDA is conducting the required referendum beginning February 2, 2009 through February 27, 2009.

Form LS-86 may be requested in person, by mail, or by facsimile from February 2, 2009 through February 27, 2009. Form LS-86 may also be obtained via the Internet at: http://www.ams.usda.gov/LSMarketingPrograms during the same 4-week period. Eligible voters would vote at the FSA office where FSA maintains and processes the person's, corporation's, or other entity's administrative farm records. For the person, corporation, or other entity eligible to vote that does not participate in FSA programs, the opportunity to vote would be provided at the FSA office serving the county where the person, corporation, or other entity owns or rents land.

Voters can determine the location of county FSA offices by contacting (1) The nearest FSA office, (2) the State FSA office, or (3) through an online search of FSA's Web site at: http://www.fsa.usda.gov/pas/default.asp. From the options available on this Web site select “Your local office,” click on your State, and click on the map to select a county.

Form LS-86 and supporting documentation may be returned in person, by mail, or facsimile to the appropriate county FSA office. Form LS-86, and accompanying documentation returned in person or by facsimile, must be received in the appropriate FSA office prior to the close of business on February 27, 2009. Form LS-86 and accompanying documentation returned by mail must be postmarked no later than midnight of February 27, 2009, and received in the county office by close of business on March 6, 2009.

In accordance with Paperwork Reduction Act (44 U.S.C. Chapter 35), the information collection requirements have been approved under OMB number 0581-0093.

Authority: 7 U.S.C. 7411-7425 and 7 U.S.C. 7401.

Dated: December 10, 2008.
James E. Link,
Administrator, Agricultural Marketing Service.

[FR Doc. E8-29693 Filed 12-15-08; 8:45 am]

BILLING CODE 3410-02-P